DEPARTMENT OF HEALTH AND HUMAN SERVICES

Health Resources and Services Administration Statement of Organization, Functions and Delegations of Authority

This notice amends Part R of the Statement of Organization, Functions and Delegations of Authority of the Department of Health and Human Services (HHS), Health Resources and Services Administration (HRSA) (60 FR 56605, as amended November 6, 1995; as last amended at 70 FR 61293—61294). The notice reflects the establishment of the Office of Health Information Technology (RT), and the creation of the following components: Division of Health Information Technology Policy (RT1), the Division of Health Information Technology State and Community Assistance (RT3), and deletes the Office for the Advancement of Telehealth (RV9) in the HIV/AIDS Bureau and creates the Office for the Advancement of Telehealth (RT2) in the Office of Health Information Technology.

Chapter RT—Office of the Associate Administrator

Section RT—00, Mission

To promote the adoption and effective use of health information technology in the safety net community.

Section RT—10, Organization

The Office of Health Information Technology (OHIT) is headed by the Associate Administrator who reports directly to the Administrator, Health Resources and Services Administration, The OHIT includes the following components:

(1) Immediate Office of the Associate Administrator (RT);

(2) Division of Health Information Technology Policy (RT1);

(3) Office for the Advancement of Telehealth (RT2); and

(4) Division of Health Information Technology State and Community Assistance (RT3).

Section RT—20, Functions

Office of the Associate Administrator (RT)

Provides leadership to HRSA's grantees for the development and nationwide implementation of health information technology infrastructure to improve the quality, safety and efficiency of health care and the ability of consumers to manage their care. Serves as the focal point for HRSA on the development, application, and use of health information technology; and as a catalyst for the wider adoption of advanced technologies in the provision of health care services and education. In conjunction with the Office of the National Health Information Technology Coordinator, ensures that HRSA's health information technology policy and programs are coordinated with those of other relevant executive branch agencies. Promotes and implements health care information technology standards for the medically underserved, ensuring that key issues affecting the public and private adoption of health information technology are addressed, including privacy and security issues. Specific functional responsibilities include: (1) Develops a nationwide health information technology and telehealth strategy for HRSA that focuses on the health care safety net and the needs of the uninsured, underserved, and special needs populations; (2) Develops HRSA's Health Information Technology (HIT) and telehealth policy, including leadership for all of HRSA's HIT projects; (3) Ensures successful dissemination of appropriate information technology advances, such as electronic medical records systems or provider networks, in the community health centers and other HRSA programs; (4) Works collaboratively with foundations, national organizations, private sector providers, as well as Departmental agencies and other Federal departments in order to promote the adoption of health information technology by HRSA's grantees; (5) Ensures the health information technology policy and programs of HRSA are coordinated with those of other HHS components; (6) Serves as the Administrator's principal advisor on the impact of health information technology initiatives in the community, especially for the uninsured, underserved, and special needs populations; and (7) Coordinates outreach and consultation with public and private parties of interest (within the extent of the law), including consumers, providers, payers, and administrators focusing on the needs of the uninsured, underserved, and special needs populations.

Division of Health Information Technology Policy (RT1)

Serves as the focal point for developing policy to promote the coordination and advancement of health information technology to HRSA's programs, including user networks, telemedicine and the use of electronic medical record systems. Specific responsibilities include: (1) Develops a nationwide health information technology and telehealth strategy for HRSA that focuses on the health care safety net and the needs of the uninsured, underserved, and special needs populations; (2) Develops HRSA's Health Information Technology (HIT) and telehealth policy; (3) Ensures successful dissemination of appropriate information technology advances, such as electronic medical records systems or provider networks, to HRSA programs; (4) Works collaboratively with States, foundations, national organizations, private sector providers, as well as Departmental agencies and other Federal departments in order to promote the adoption of health information technology by HRSA's grantees; (5) Ensures the health information technology policy and programs of HRSA are coordinated with those of other HHS components; (6) Assesses the impact of health information technology initiatives in the community, especially for the uninsured, underserved, and special needs populations; (7) Coordinates outreach and consultation with public and private parties of interest (within the extent of the law), including consumers, providers, payers, and administrators focusing on the needs of the uninsured, underserved, and special needs populations; and (8) Develops and translates policy to promote the coordination and advancement of health information technology to HRSA's programs.

Office for the Advancement of Telehealth (RT2)

Serves as the operational focal point for coordinating and advancing the use of telehealth technologies across all of HRSA's programs including, but not limited to, the provision of healthcare at a distance (telemedicine); distance-based leaning to improve the knowledge of agency grantees, and others; and improved information dissemination to both consumers and providers about the latest developments in telemedicine. The Office for the Advancement of Telehealth carries out the following functions, specifically: (1) Develops and coordinates telehealth network and telehealth resource centers grant programs; (2) Provides professional assistance and support in developing telehealth initiatives; (3) Administers grant programs to promulgate and evaluate the use of appropriate telehealth technologies among HRSA grantees and others; (4) Disseminates the latest information and research findings related to the use of telehealth technologies in agency programs and underserved areas, including findings on “best practices;” and (5) Provides guidance on telehealth policy through the Associate Administrator for Health Information Technology to the Office of the National Health Information Technology Coordinator and the other components of the Department, with other Federal and State agencies, and with the private sector to promote and overcome barriers to cost-effective telehealth programs.

Division of Health Information Technology State and Community Assistance (RT3)

Serves as the operational focal point for coordinating and advancing the adoption of health information technology across all of HRSA's programs, including, but not limited to, user networks, clinical management systems, and the use of electronic medical record systems. Ensures information dissemination to HRSA grantees and other consumers and providers about the latest developments in health care information technology, and the impact of health information technology on other activities designed to improve the health status of the Nation. The Division of Health Information Technology State and Community Assistance carries out the following functions: (1) Develops and coordinates health information technology (HIT) programs and policies; (2) Provides professional assistance and support in developing HIT initiatives among HRSA grantees; (3) Administers grant programs to promote and evaluate the use of appropriate HIT among grantees and others; (4) Advises HRSA grantees on strategies to maximize the potential of new and existing HIT technologies for meeting quality and technical assistance objectives; (5) Disseminates the latest information and research findings related to the use of HIT technologies in the agency programs and underserved areas, including findings on “best practices;” and (6) Provides guidance on HIT policy for safety net providers through the Associate Administrator for Health Information Technology to the Office of the National Health Information Technology Coordinator and the other components of the Department, with other Federal and State agencies and with the private sector to promote and overcome barriers to effective HIT programs.

Section RT—30, Delegations of Authority

All delegations and redelegations of authorities to officers and employees of HRSA that were in effect immediately prior to the effective date of this action will be continued in effect in them or their successors, pending further redelegation, provided they are consistent with this action.

This document is effective upon date of signature.

Dated: December 14, 2005.
Elizabeth M. Duke,
Administrator.

[FR Doc. E5-7800 Filed 12-23-05; 8:45 am]

BILLING CODE 4165-15-P